DEPARTMENT OF ENERGY

Federal Energy Regulatory Commission

[Project No. 2721-013]

Notice of Application Ready for Environmental Analysis and Soliciting Comments, Recommendations, Terms and Conditions, and Prescriptions

August 8, 2003.

Take notice that the following hydroelectric application has been filed with the Commission and is available for public inspection.

a. Type of Application: New Major License.

b. Project No.: 2721-013.

c. Date Filed: September 28, 1998.

d. Applicant: PPL Maine, LLC.

e. Name of Project: Howland Hydroelectric Project.

f. Location: On the Piscataquis River in the town of Howland, Penobscot County, Maine. There are no federal lands within the project boundary.

g. Filed Pursuant to: Federal Power Act 16 U.S.C. 791(a)—825(r).

h. Applicant Contact: Mr. Scott D. Hall, PPL Maine, LLC, Davenport Street, P.O. Box 276, Milford, ME 04461-0276, 207-827-2247.

i. FERC Contact: Ed Lee, eddie.lee@ferc.gov, or (202) 502-6082.

j. Status of Environmental Analysis: This application has been accepted for filing and is ready for environmental analysis at this time.

The deadline for filing comments, recommendations, terms and conditions and prescriptions: 60 days from the issuance date of this notice, reply comments are due 105 days from the date of this notice. The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site ( http://www.ferc.gov ) under the “eFiling” link.

k. Description of the Project: The project consists of the following existing facilities: (1) A dam, located about 500 feet upstream of the confluence with the Penobscot River, and consisting of a 114.5-foot-long concrete cutoff wall at the north embankment, a 6-foot-long non-overflow abutment, a 570-foot-long and about 9-foot-high concrete overflow spillway with 3-foot 9-inch-high wooden flashboards, a 85-foot-long gated spillway section with four 9-foot by 9-foot steel roller flood gates, a 20-foot-long non-overflow section containing the exit for the Denil fishway, and a 76-foot-long forebay entrance deck; (2) a 108.5-foot-long, 28.5-foot-wide, and 18-foot-high powerhouse integral with the dam; (3) three turbine generator units, for a total project installed capacity of 1,875 kilowatts (kW); (4) a 3.5-foot-wide concrete Denil fishway with wooden baffles, for upstream fish passage; (5) downstream fish passage facilities consisting of a 5-foot 9-inch-wide trash sluice gate fitted with a 3-foot 6-inch-deep bellmouth weir, and powerhouse trash racks with one-inch clear spacing; (6) a 4.7-mile-long, 270-acre project reservoir, with a normal reservoir elevation of 148.2 feet (USGS datum); (7) an outdoor substation connected by a short transmission line to the Stanford Substation in West Enfield; and (8) other appurtenances.

l. A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

Register online at http://www.ferc.gov/esubscribenow.htm to be notified via email of new filings and issuances related to this or other pending projects. For assistance, contact FERC Online Support.

Anyone may obtain an extension of time for these deadlines from the Commission only upon a showing of good cause or extraordinary circumstances in accordance with 18 CFR 385.2008.

All filings must: (1) Bear in all capital letters the title “COMMENTS”, “REPLY COMMENTS”, “RECOMMENDATIONS,” “TERMS AND CONDITIONS,” or “PRESCRIPTIONS;” (2) set forth in the heading the name of the applicant and the project number of the application towhichthe filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

m. Procedures schedule: The Commission staff proposes to issue one Environmental Assessment (EA) rather than issuing a draft and final EA. Staff intends to allow at least 30 days for entities to comment on the EA, and will take into consideration all comments received on the EA before final action is taken on the license application. If any person or organization objects to the staff proposed alternative procedure, they should file comments as stipulated in item l above, briefly explaining the basis for their objection. The application will be processed according to the following schedule, but revisions to the schedule may be made as appropriate:

Issue Notice of availability of EA December 2003.

Ready for Commission decision on the application January 2004.

Magalie R. Salas,
Secretary.

[FR Doc. 03-20974 Filed 8-15-03; 8:45 am]

BILLING CODE 6717-01-P